DEPARTMENT OF LABOR

Employment and Training Administration

[TA-W-73,429]

Masonico, LLC, a Subsidiary of Cadence Innovation, LLC, DIP, Including On-Site Leased Workers From Personnel Unlimited, Fraser, MI; Amended Certification Regarding Eligibility To Apply for Worker Adjustment Assistance

In accordance with section 223 of the Trade Act of 1974, as amended (“Act”), 19 U.S.C. 2273, the Department of Labor issued a Certification of Eligibility to Apply for Worker Adjustment Assistance on May 24, 2010, applicable to workers of Masonico, LLC, including on-site leased workers from Personnel Unlimited, Fraser, Michigan. The notice was published in the Federal Register June 16, 2010 (75 FR 34174).

At the request of the State agency, the Department reviewed the certification for workers of the subject firm. The workers are engaged in activities related to injection molded parts and interior trim products.

New information shows that Masonico, LLC is a subsidiary of Cadence Innovation, LLC DIP. Workers separated from employment at the Fraser, Michigan location of Masonico, LLC had their wages reported under a separate unemployment insurance (UI) tax account under the name Cadence Innovation, LLC DIP.

Accordingly, the Department is amending this certification to properly reflect this matter.

The intent of the Department's certification is to include all workers of the Masonico, LLC, a subsidiary of Cadence Innovation, who were adversely affected as a secondary component supplier to a TAA certified worker group.

The amended notice applicable to TA-W-73,429 is hereby issued as follows:

All workers of Masonico, LLC, a subsidiary of Cadence, LLC DIP, including on-site leased workers from Personnel Unlimited, Fraser, Michigan, who became totally or partially separated from employment on or after January 29, 2009 through May 24, 2012, and all workers in the group threatened with total or partial separation from employment on date of certification through two years from the date of certification, are eligible to apply for adjustment assistance under Chapter 2 of Title II of the Trade Act of 1974, as amended.

Signed at Washington, DC this 10th day of November 2010.
Elliott S. Kushner,
Certifying Officer, Division of Trade Adjustment Assistance.

[FR Doc. 2010-29097 Filed 11-17-10; 8:45 am]

BILLING CODE 4510-FN-P